DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Port Authority Trans-Hudson Corporation

[Docket Number FRA-2002-12409]

The Port Authority Trans-Hudson Corporation (PATH) seeks a waiver of compliance from the requirements of [49 CFR 238.305(c)(10)] and [49 CFR 238.317(a)(1)] of the Passenger Equipment Safety Standards. Section 238.305(c)(10) requires all end doors and side doors to operate safely and as intended. A non-complying car may continue in passenger service pursuant to paragraph (d) of this section, if, at least one operative and accessible door is available on each side of the car; and a notice is prominently displayed directly on the defective door indicating that the door is defective. Section 238.305(d) allows a passenger car found not to be in compliance with the requirements contained in paragraphs (c)(10) at the time of its interior calendar day mechanical inspection to remain in passenger service until the car's next interior calendar day mechanical inspection where it must be repaired or removed from passenger service.

PATH's request was for (MU) passenger cars equipped with two and three double leaf side doors on each side of the car. These cars are allowed to operate beyond the next interior calendar day inspection for up to eight days after the requirements of 238.305(d)(1), (2), and (3) are met. Section 238.305 (d) requires that: (1) A qualified person or a qualified maintenance person determines that the repairs necessary to bring the car into compliance cannot be performed at the time that the current day's interior mechanical inspection is conducted; (2) A qualified person or a qualified maintenance person determines that it is safe to move the equipment in passenger service; and (3) A record is maintained of the non-complying condition with the date and time that the condition was first discovered.

Section 238.317(a)(1) requires that whenever the control stand used to control the train is changed, a Class II brake test shall be performed prior to the train's departure from the terminal. PATH requests partial relief from this requirement. PATH does not want to perform this brake test when the train's terminal dwell time is less then five minutes because the conductor would not have time to perform the test at the rear of the train and walk forward to his operating position between the first and second car.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12409) and must be submitted to the Docket Clerk, DOT Central Docket Management Facility, Room P1-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on July 8, 2002.
Grady C. Cothen, Jr.,
Deputy Associate Administrator for Safety Standards and Program Development.

[FR Doc. 02-17572 Filed 7-11-02; 8:45 am]

BILLING CODE 4910-06-P